DEPARTMENT OF TRANSPORTATION

Federal Aviation Administration

Proposed Advisory Circular (AC) 43-HAB, Hot Air Balloon Inspection and Repair: Acceptable Methods, Techniques, and Practices

AGENCY: Federal Aviation Administration, DOT.

ACTION: Notice of availability and request for comments on the proposed AC.

SUMMARY: This notice announces a proposed AC to be used by the Hot Air Balloon community as acceptable methods, techniques, and practices associated with the inspection and repair of Hot Air Balloons. This notice is necessary to give all interested persons the opportunity to present their views on the proposed AC. Hot air balloons derive lift from self-contained, generated heated air and are considered by definition a lighter-than-air aircraft. The owner or operator of a hot air balloon is primarily responsible for maintaining the balloon in an airworthy condition. The persons performing maintenance are responsible for the manner of performance and the approval for return to service after work is completed.

DATES: Comments must be received on or before January 6, 2003.

ADDRESSES: Send all comments on the proposed AC to: DOT/FAA, Standardization Branch, AFS-640, Attn: George Torres, 6500 S. MacArthur Boulevard, ARB Room 304A, Oklahoma City, Oklahoma 73125, or electronically to george.torres@faa.gov.

FOR FURTHER INFORMATION CONTACT: George Torres, AFS-640, at the address above, by telephone: (405) 954-6923, by fax: (405) 954-4104, or by e-mail: george.torres@faa.gov.

SUPPLEMENTARY INFORMATION:

Comments Invited

The proposed AC is available on the FAA Web site at http://www1.airweb.faa.gov/Regulatory_and_Guidance_Library/rgDAC.nsf/MainFrame?OpenFrameSet, under AC No. 43-HAB. A copy of the proposed AC may be obtained by contacting the person named above under FOR FURTHER INFORMATION CONTACT. Interested persons are invited to comment on the proposed AC by submitting such written data, views, or arguments, as they may desire. Please identify AC 43-HAB, Hot Air Balloon Inspection and Repair: Acceptable Methods, Techniques, and Practices, and submit comments, either hard copy or electronically, to the appropriate address listed above. Comments may be inspected at the above address between 9 a.m. and 4 p.m. weekdays, except Federal holidays.

Issued in Washington, DC, on November 1, 2002.
Louis C. Cusimano,
Deputy Director, Flight Standards Service.

[FR Doc. 02-28372 Filed 11-6-02; 8:45 am]

BILLING CODE 4910-13-M